DEPARTMENT OF DEFENSE

Department of the Air Force

[Docket ID: USAF-2024-HQ-0005]

Proposed Collection; Comment Request

AGENCY: Department of the Air Force, Department of Defense (DoD).

ACTION: 60-Day information collection notice.

SUMMARY: In compliance with the Paperwork Reduction Act of 1995, the 711th Human Performance Wing, Air and Space Biosciences Division announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to 711 Human Performance Wing, Air and Space Biosciences Division, 2510 Fifth Street, Bldg. 840, Wright-Patterson AFB, OH 45433, ATTN: Dr. Rena Nicholas, or call (937) 904-5700.

SUPPLEMENTARY INFORMATION:

Title; Associated Form; and OMB Number: Wearables for Readiness Indicators; OMB Control Number 0701-WFRI.

Needs and Uses: The Wearables for Readiness Indicators research study aims to determine whether the biobehavioral signals from commercial off-the-shelf wearable devices such as Apple Watches, Garmin watches, and Oura rings can reliably predict periods of risk for musculoskeletal injuries or mental health disorders. The data collection activity asks volunteers to upload retrospective commercial wearable data from their personally-procured commercial wearable devices to an online data collection site and to provide the dates, diagnoses, and prescribed medications from all medical encounters during the time for which their wearables data is available. The intent is to find biobehavioral signals that precede medical conditions such as mental health disorders and musculoskeletal injuries. The data collection website will also query for other factors that may not be present in a medical record but may influence the interpretation of wearables' biobehavioral signals. Therefore, subjects will answer questions about their mood, occupational exposures, lifestyle risk factors and changes, and psychosocial stressors. They will also answer questions about medical conditions they may have experienced but self-managed or for which they otherwise did not seek medical attention.

The targeted population is focused on military members within 1 year of their approved military separation date or veterans who are within 1 year of their separation date. This population was selected because they may be less reluctant to share their medical information because they no longer have a fear of fitness for duty repercussions while still being representatively healthy and “fit for duty,” with limited health morbidities and polypharmacy issues as a group of veterans who are more distal from their dates of separation or compared to the general public who might have medical conditions that would be disqualifying from service.

Affected Public: Individuals or households.

Annual Burden Hours: 900.

Number of Respondents: 600.

Responses per Respondent: 1.

Annual Responses: 600.

Average Burden per Response: 90 minutes.

Frequency: Once.

Study volunteers who meet inclusion criteria for the research will upload the data file for the previous 12 months from their personal wearable device and enter their medical appointment dates and diagnoses for the same time period as their wearables data (e.g., the previous 12 months). They will also answer the questions about lifestyle, risk, and mood to help clarify factors that might affect the biobehavioral signals received from the personal wearable device. This data will be entered once, and when completed, no further participation or contact with the researchers will occur, unless initiated by the volunteer, who has the right to contact the research team with questions, concerns, or feedback IAW DoDI 3216.02, which governs the protections of human subjects in research.

Dated: July 18, 2024.
Aaron T. Siegel,
Alternate OSD Federal Register Liaison Officer, Department of Defense.

[FR Doc. 2024-16140 Filed 7-22-24; 8:45 am]

BILLING CODE 5001-05-P